DEPARTMENT OF EDUCATION

National Advisory Council on Indian Education (NACIE)

AGENCY: U.S. Department of Education.

ACTION: Notice of a Closed Meeting.

SUMMARY: This notice sets forth the schedule and proposed agenda of an upcoming closed meeting of the National Advisory Council on Indian Education (the Council) and is intended to notify the general public of the meeting. This notice also describes the functions of the Council. Notice of the Council's meetings is required under Section 10(a)(2) of the Federal Advisory Committee Act.

Dates and Times: June 23, 2011; June 24, 2011. June 23, 2011—2 p.m. to 5 p.m. Eastern Daylight Savings Time. June 24, 2011—12 p.m. to 5 p.m. Eastern Daylight Savings Time.

Location: The closed meeting will be conducted via conference call with NACIE members.

SUPPLEMENTARY INFORMATION:

The National Advisory Council on Indian Education is authorized by Section 7141 of the Elementary and Secondary Education Act. The Council is established within the Department of Education to advise the Secretary of Education on the funding and administration (including the development of regulations, and administrative policies and practices) of any program over which the Secretary has jurisdiction and includes Indian children or adults as participants or programs that may benefit Indian children or adults, including any program established under Title VII, Part A of the Elementary and Secondary Education Act. The Council submits to the Congress, not later than June 30 of each year, a report on the activities of the Council that includes recommendations the Council considers appropriate for the improvement of Federal education programs that include Indian children or adults as participants or that may benefit Indian children or adults, and recommendations concerning the funding of any such program.

One of the Council's responsibilities is to develop and provide recommendations to the Secretary of Education on the funding and administration (including the development of regulations, and administrative policies and practices) of any program over which the Secretary has jurisdiction that can benefit Indian children or adults participating in any program which could benefit Indian children. Additionally, the Council makes recommendations to the Secretary for filling the position of the Director of Indian Education whenever a vacancy occurs.

The purpose of these closed meetings is to convene the Council via conference calls to interview candidates and deliberate on recommendations to the Secretary of Education for a Director of the Office of Indian Education. These closed discussions will take place June 23, 2011, 2 p.m. to 5 p.m. Eastern Daylight Savings Time and June 24, 2011, 12 p.m. to 5 p.m. Eastern Daylight Savings Time. These discussions pertain solely to internal personnel rules and practices of an agency and will disclose information of a personal nature where disclosure would constitute an unwarranted invasion of personal privacy. As such, this discussion is protected by exemptions 2 and 6 of section 552b(c) of Title 5 U.S.C.

FOR FURTHER INFORMATION CONTACT: Jenelle Leonard, Acting Director/Designated Federal Official, Office of Indian Education, U.S. Department of Education, 400 Maryland Avenue, SW., Washington, DC 20202. Telephone: 202-205-2161. Fax: 202-205-5870.

A report of the activities of the closed session and related matters that are informative to the public and consistent with the policy of section 5 U.S.C. 552b(c) will be available to the public within 21 days of the meeting. Records are kept of all Council proceedings and are available for public inspection at the at the Office of Indian Education, United States Department of Education, 400 Maryland Avenue, SW., Washington, DC 20202. Monday-Friday, 8:30 a.m.-5:00 p.m. Eastern Daylight Time.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Thelma Meléndez de Santa Ana,
Assistant Secretary for Elementary and Secondary Education.

[FR Doc. 2011-14316 Filed 6-8-11; 8:45 am]

BILLING CODE 4000-01-P